ENVIRONMENTAL PROTECTION AGENCY

[FRL-10003-72-OA]

Notice of Meeting of the EPA Children's Health Protection Advisory Committee (CHPAC)

AGENCY: Environmental Protection Agency (EPA).

ACTION: Notice of public federal advisory committee teleconference.

SUMMARY: Pursuant to the provisions of the Federal Advisory Committee Act, notice is hereby given that the Children's Health Protection Advisory Committee (CHPAC) will hold a public teleconference on January 15th, 2020 from 10:30 a.m. to 12:00 p.m. EST. The Children's Health Protection Advisory Committee is a federal advisory committee which advises EPA on science, regulations and other issues relating to children's environmental health.

DATES: January 15, 2020 from 10:30 a.m. to 12:00 p.m. EST.

FOR FURTHER INFORMATION CONTACT: Nica Louie, Office of Children's Health Protection, U.S. EPA, MC 1107T, 1200 Pennsylvania Avenue NW, Washington, DC 20460, (202) 564-7633 or louie.nica@epa.gov.

SUPPLEMENTARY INFORMATION: The meetings of the CHPAC are open to the public. An agenda will be posted to https://www.epa.gov/children/childrens-health-protection-advisory-committee-chpac.

Purpose of Meeting: The purpose of this teleconference is to discuss and finalize CHPAC's risk communication comment letter to the EPA Administrator.

Access and Accommodations: For information on access or services for individuals with disabilities, please contact Nica Louie at 202-564-7633 or louie.nica@epa.gov.

Dated: December 12, 2019.
Nica Louie,
Environmental Health Scientist.

[FR Doc. 2019-28011 Filed 12-26-19; 8:45 am]

BILLING CODE 6560-50-P